DEPARTMENT OF THE INTERIOR

Bureau of Land Management

[NV-930-1430-EU; N-62434, N-62831]

Notice of Realty Action: Non-Competitive Sale of Public Lands

AGENCY: Bureau of Land Management, Interior.

ACTION: Non-Competitive Sale of Public Lands in Clark County, Nevada.

SUMMARY: The following described public lands in Las Vegas, Clark County, Nevada have been examined and found suitable for sale utilizing non-competitive procedures, at not less than the fair market value of $310,000.00. Authority for the sale is section 203 and section 209 of the Federal Land Policy and Management Act of 1976 (FLPMA) and the Southern Nevada Public Land Management Act of 1998 (Pub.L. 105-263).

Mount Diablo Meridian, Nevada

T. 22 S., R. 60 E.,

Sec.23,S½SW¼NW¼SW¼NW¼, S½NE¼NW¼SE¼NW¼.

Containing 2.5 acres, more or less, located at Blue Diamond Road (State Route 160), Redwood Street and Rainbow Boulevard.

These parcels of land, situated in Las Vegas are being offered as a direct sale to Donald Tripoli, the adjacent property owner. This land is not required for any federal purposes. The sale is consistent with current Bureau planning for this area and would be in the public interest.

In the event of a sale, conveyance of the available mineral interests will occur simultaneously with the sale of the land. The mineral interests being offered for conveyance have no known mineral value. Acceptance of a direct sale offer will constitute an application for conveyance of those mineral interests. The applicant will be required to pay a $50.00 nonreturnable filing fee for conveyance of the available mineral interests.

The patent, when issued, will contain the following reservations to the United States:

1. A right-of-way thereon for ditches and canals constructed by the authority of the United States, Act of August 30, 1890 (43 U.S.C. 945).

2. Oil, gas, sodium, potassium and saleable minerals; and will be subject to:

1. All valid existing rights.

2. Easements in accordance with the Clark County Transportation Plan.

3. Those rights for powerline purposes which have been granted to Nevada Power Company by Permit No. N-58927 under the Act of October 21, 1976 (43 U.S.C. 1761).

4. Those rights for State Route 160 which have been granted to Nevada Department of Transportation by Permit No. NEV-012728 under the act of August 27, 1958 (23 U.S.C. 107, 317).

For a period of 45 days from the date of publication of this notice in the Federal Register, interested parties may submit comments to the Field Manager, Las Vegas Field Office, 4765 Vegas Drive, Las Vegas, Nevada 89108. Any adverse comments will be reviewed by the State Director who may sustain, vacate, or modify this realty action. In the absence of any adverse comments, this realty action will become the final determination of the Department of the Interior. The Bureau of Land Management may accept or reject any or all offers, or withdraw any land or interest in the land from sale, if, in the opinion of the authorized officer, consummation of the sale would not be fully consistent with FLPMA, or other applicable laws. The lands will not be offered for sale until at least 60 days after the date of publication of this notice in the Federal Register.

Dated: August 28, 2000.
Mark T. Morse,
Field Manager, Las Vegas, Nevada.

[FR Doc. 00-23085 Filed 9-7-00; 8:45 am]

BILLING CODE 4310-HC-P